NATIONAL FOUNDATION ON THE ARTS AND THE HUMANITIES

Meeting of Humanities Panel

AGENCY: The National Endowment for the Humanities.

ACTION: Notice of meeting.

SUMMARY: Pursuant to the provisions of the Federal Advisory Committee Act (Pub. L. 92-463, as amended), notice is hereby given that a meeting of the Humanities Panel will be held at the Old Post Office, 1100 Pennsylvania Avenue, NW., Washington, DC 20506.

DATES: The meeting will be held Monday, August 11, 2008, at 9 a.m.-3 p.m.

ADDRESSES: The meeting will be held in Room M-07 at the Old Post Office, 1100 Pennsylvania Avenue, NW., Washington, DC 20506.

FOR FURTHER INFORMATION CONTACT: Michael P. McDonald, Advisory Committee Management Officer, National Endowment for the Humanities, Washington, DC 20506; telephone (202) 606-8322. Hearing-impaired individuals are advised that information on this matter may be obtained by contacting the Endowment's TDD terminal on (202) 606-8282.

SUPPLEMENTARY INFORMATION: The purpose of the meeting of the Humanities Panel is to solicit and collect advice and comments on the Endowment's EDSITEment program. EDSITEment is an online educational partnership between the Endowment and the Verizon foundation, Thinkfinity.org and can be accessed at http://edsitement.neh.gov/. The meeting is open to the public. A 10-minute time slot is reserved for public comments at the end of the meeting.

Michael P. McDonald,
Advisory Committee Management Officer.

[FR Doc. E8-17982 Filed 8-5-08; 8:45 am]

BILLING CODE 7536-01-P